DEPARTMENT OF COMMERCE

International Trade Administration

[A-549-821]

Polyethylene Retail Carrier Bags From Thailand: Preliminary Results of Antidumping Duty Administrative Review; 2012-2013

AGENCY: Enforcement and Compliance, International Trade Administration, Department of Commerce.

SUMMARY: The Department of Commerce (the Department) is conducting an administrative review of the antidumping duty order on polyethylene retail carrier bags (PRCBs) from Thailand.¹ This review covers six companies. The period of review (POR) is August 1, 2012, through July 31, 2013. We preliminarily find that subject merchandise has been sold at less than normal value by the companies subject to this review. Interested parties are invited to comment on these preliminary results.

¹ See Antidumping Duty Order: Polyethylene Retail Carrier Bags From Thailand, 69 FR 48204 (August 9, 2004) (Order).

DATES: Effective Date: June 11, 2014.

FOR FURTHER INFORMATION CONTACT: Sandra Dreisonstok or Minoo Hatten, AD/CVD Operations, Office I, Enforcement and Compliance, International Trade Administration, U.S. Department of Commerce, 14th Street and Constitution Avenue NW., Washington, DC 20230; telephone: (202) 482-0768 and 202-482-1690, respectively.

SUPPLEMENTARY INFORMATION:

Scope of the Order

The merchandise subject to the antidumping duty order is polyethylene retail carrier bags, which are currently classified under subheading 3923.21.0085 of the Harmonized Tariff Schedule of the United States (HTSUS). The HTSUS number is provided for convenience and customs purposes. A full description of the scope of the order is contained in the Preliminary Decision Memorandum.² The written description is dispositive.

² See memorandum from Christian Marsh, Deputy Assistant Secretary for Antidumping and Countervailing Duty Operations, to Paul Piquado, Assistant Secretary for Enforcement and Compliance, “Decision Memorandum for Preliminary Results of the 2012/13 Antidumping Duty Administrative Review: Polyethylene Retail Carrier Bags from Thailand” (Preliminary Decision Memorandum), dated concurrently with this notice.

The Preliminary Decision Memorandum is a public document and is on file electronically via Enforcement and Compliance's Antidumping and Countervailing Duty Centralized Electronic Service System (IA ACCESS). Access to IA ACCESS is available to registered users at http://iaaccess.trade.gov and it is available to all parties in the Central Records Unit, room 7046 of the main Department of Commerce building. In addition, a complete version of the Preliminary Decision Memorandum can be accessed directly on the Internet at http://enforcement.trade.gov/frn/index.html. The signed Preliminary Decision Memorandum and the electronic versions of the Preliminary Decision Memorandum are identical in content.

Methodology

In accordance with sections 776(a) and (b) of the Tariff Act of 1930, as amended (the Act), we relied on facts available with an adverse inference with respect to Beyond Packaging Co., Ltd. (Beyond Packaging), the sole company selected for individual examination in this review. Thus, we preliminarily assign a rate of 122.88 percent as the weighted-average dumping margin for Beyond Packaging. For a full description of the methodology underlying our conclusions, see the Preliminary Decision Memorandum. A list of topics included in the Preliminary Decision Memorandum is included in the Appendix attached to this notice.

Rates for Respondents Not Selected for Individual Examination

The statute and the Department's regulations do not address the establishment of a rate to be applied to individual companies not selected for examination when the Department limits its examination in an administrative review pursuant to section 777A(c)(2) of the Act. In administrative reviews, when the Department does not review all of the respondents, the Department looks to section 735(c)(5) of the Act, which provides instructions for calculating the all-others rate in an investigation, for guidance in determining a rate for companies not individually examined. Section 735(c)(5)(A) of the Act instructs that we do not calculate an all-others rate using any zero or de minimis weighted-average dumping margins or any weighted-average dumping margins based entirely on facts available. Section 735(c)(5)(B) of the Act states that “if the estimated weighted average dumping margins established for all exporters and producers individually investigated are zero or de minimis, or determined entirely under section 776” in an investigation, the Department may “use any reasonable method to establish the estimated all-others rate for exporters and producers not individually investigated.” In this administrative review, the only rate preliminarily applied to an individually examined respondent has been determined entirely pursuant to section 776(a) and (b) of the Act. Therefore, consistent with section 735(c)(5)(B) of the Act, we preliminarily determine that a reasonable method for determining the weighted-average dumping margins for the five non-examined respondents in this review is to apply the all-others rate of 4.69 percent.³ This all-others rate is taken from the Section 129 Determination for the original less-than-fair-value investigation.⁴

³ For a full description of the methodology underlying our conclusions, see Preliminary Decision Memorandum.

⁴ See Notice of Implementation of Determination Under Section 129 of the Uruguay Round Agreements Act and Partial Revocation of the Antidumping Duty Order on Polyethylene Retail Carrier Bags From Thailand, 75 FR 48940 (August 12, 2010)(Section 129 Determination).

Preliminary Results of Review

As a result of our review, we preliminarily determine that the following weighted-average dumping margins on PRCBs from Thailand exist for the period August 1, 2011, through July 31, 2012 at the following rates:

Company | Rate (percent)
Beyond Packaging Co., Ltd. | 122.88
Dpac Inter Corporation Co., Ltd. | 4.69
Elite Poly and Packaging Co., Ltd. | 4.69
Poly World Co., Ltd. | 4.69
Triple B Pack Company Limited | 4.69
Two Path Plaspack Co., Ltd. | 4.69

Disclosure and Public Comment

Pursuant to 19 CFR 351.309(c), interested parties may submit case briefs not later than 30 days after the date of publication of this notice. Rebuttal briefs, limited to issues raised in the case briefs, may be filed not later than five days after the date for filing case briefs.⁵ Parties who submit case briefs or rebuttal briefs in this proceeding are encouraged to submit with each argument: (1) A statement of the issue; (2) a brief summary of the argument; and (3) a table of authorities.⁶ Interested parties who wish to comment on the preliminary results must file briefs electronically using IA ACCESS. An electronically-filed document must be received successfully in its entirety in IA ACCESS, by 5 p.m. Eastern Time on the date the document is due.

⁵ See 19 CFR 351.309(d).

⁶ See 19 CFR 351.303 (for general filing requirements).

Pursuant to 19 CFR 351.310(c), interested parties who wish to request a hearing, or to participate if one is requested, must submit a written request to the Assistant Secretary for Enforcement and Compliance, filed electronically via IA ACCESS. An electronically filed document must be received successfully in its entirety in IA ACCESS by 5 p.m. Eastern Time within 30 days after the date of publication of this notice. Requests should contain: (1) The party's name, address and telephone number; (2) the number of participants; and (3) a list of issues to be discussd. Issues raised in the hearing will be limited to those raised in the respective case briefs.

The Department intends to issue the final results of this administrative review, including the results of its analysis of the issues raised in any written briefs, not later than 120 days after the date of publication of this notice, pursuant to section 751(a)(3)(A) of the Act.

Assessment Rates

Upon issuance of the final results, the Department shall determine, and CBP shall assess, antidumping duties on all appropriate entries covered by this review. For the final results, if we continue to rely on adverse facts available to establish Beyond Packaging's weighted-average dumping margin, we will instruct CBP to apply an ad valorem assessment rate of 122.88 percent to all entries of subject merchandise during the POR which were produced and/or exported by Beyond Packaging.

For the companies which were not selected for individual examination we will instruct CBP to apply an ad valorem assessment rate of 4.69 percent to all entries of subject merchandise produced and/or exported by such firms.

We intend to issue liquidation instructions to CBP 15 days after publication of the final results of review. We also intend to communicate with CBP regarding Beyond Packaging's declared address for subject entries and provide evidence to CBP of our attempts to find an accurate address.

Cash Deposit Requirements

The following deposit requirements will be effective upon publication of the notice of final results of administrative review for all shipments of PRCBs from Thailand entered, or withdrawn from warehouse, for consumption on or after the date of publication, as provided by section 751(a)(2) of the Act: (1) The cash deposit rates for the reviewed companies will be the rates established in the final results of this review; (2) for merchandise exported by manufacturers or exporters not covered in this review but covered in a prior segment of the proceeding, the cash deposit rate will continue to be the company-specific rate published for the most recently completed segment of this proceeding; (3) if the exporter is not a firm covered in this review, a prior review, or the less-than-fair-value investigation but the manufacturer is, the cash deposit rate will be the rate established for the most recently completed segment of this proceeding for the manufacturer of the merchandise; (4) if neither the exporter nor the manufacturer has its own rate, the cash deposit rate will be 4.69 percent.⁷ These deposit requirements, when imposed, shall remain in effect until further notice.

⁷ See Section 129 Determination.

Notifications to Importers

This notice serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

Notification to Interested Parties

We are issuing and publishing these results in accordance with sections 751(a)(1) and 777(i)(1) of the Act.

Dated: June 4, 2014.
Paul Piquado,
Assistant Secretary for Enforcement and Compliance.

Appendix

List of Topics Discussed in the Preliminary Decision Memorandum

A. Summary

B. Background

C. Scope of the Order

D. Discussion of the Methodology

1. Selection of Respondents

2. Request for Duty Absorption Determinations

3. Use of Facts Otherwise Available

a. Use of Facts Available

b. Application of Facts Available With an Adverse Inference

c. Selection and Corroboration of Information Used As Facts Available

4. Rate for Non-Selected Companies

E. Recommendation

[FR Doc. 2014-13644 Filed 6-10-14; 8:45 am]

BILLING CODE 3510-DS-P